FEDERAL TRADE COMMISSION

16 CFR Part 303

Rules and Regulations Under the Textile Fiber Products Identification Act

AGENCY: Federal Trade Commission.

ACTION: Final rule.

SUMMARY: The Federal Trade Commission (FTC or Commission) amends the Rules and Regulations under the Textile Fiber Products Identification Act (Textile Rules) pursuant to the Miscellaneous Trade and Technical Corrections Act of 2004, enacted December 3, 2004. That Act imposes specific requirements for the disclosure of country of origin of socks included within certain Harmonized Tariff Schedule subheadings. For the affected socks, the country of origin label must be on the front of the package, adjacent to the size designation. The amendments announced herein conform the Textile Rules to the amended Textile Fiber Products Identification Act (Textile Act). Because the amendments are technical in nature and merely incorporate the statutory change, the Commission finds that notice and comment are not required. See 5 U.S.C. 553(b). For this reason, the requirements of the Regulatory Flexibility Act also do not apply. See 5 U.S.C. 603, 604.

EFFECTIVE DATE: The amended Rules are effective on March 3, 2006.

ADDRESSES: Requests for copies of the amended Rules should be sent to the Consumer Response Center, Room 202, Federal Trade Commission, 600 Pennsylvania Avenue, NW., Washington, DC 20580. The notice announcing the amendments is available on the Internet at the Commission's Web site: http://www.ftc.gov.

FOR FURTHER INFORMATION CONTACT: Carol Jennings, Attorney, cjennings@ftc.gov, or Stephen Ecklund, Senior Investigator, secklund@ftc.gov, (202) 326-2996, Division of Enforcement, Bureau of Consumer Protection, Federal Trade Commission, 600 Pennsylvania Avenue, NW., Washington, DC 20580.

SUPPLEMENTARY INFORMATION: The Textile Act, 15 U.S.C. 70, and Commission rules pursuant to the Act, 16 CFR Part 303, require that sellers of covered textile products mark each product to show: (1) The fiber content, (2) the country of origin, and (3) the identity of the manufacturer or another business responsible for marketing or handling the item. The general requirements for affixing textile labels and the arrangement of information on labels are set forth in 16 CFR 303.15 and 303.16.

The Miscellaneous Trade and Technical Corrections Act of 2004, Public Law No. 108-429, 118 Stat. 2594, amends the Textile Act by adding a new subsection, 15 U.S.C. 70b(k), which imposes special requirements for the country of origin labeling of socks that are included within subheadings 6115.92.90, 6115.93.90, 6115.99.18, 6111.20.60, 6111.30.50, and 6111.90.50 of the Harmonized Tariff Schedule of the United States, as in effect on September 1, 2003. For those socks, the country of origin marking must always be placed on the front of the package. If size information for the product also appears on the front of the package, the country of origin marking must be adjacent to the size information for the product. If no size information appears on the package or if the size information appears on the back of the package, the country of origin marking must still be placed on the front of the package. The information must be set forth in a manner that is clearly legible, conspicuous, and readily accessible to the consumer. In addition, the marking must be as indelible or permanent as the nature of the article or package will permit. For socks that are not fully enclosed in a package, but are banded together by a label or hangtag, the information must be placed on the front of the label or tag.

There is an exception to this requirement for socks included in a package that also contains other types of goods (for example, a baby outfit that includes socks as well as other items of clothing). However, such packages of multiple items must comply with other relevant subsections of the Textile Rules. See, e.g., 16 CFR 303.28 (products contained in packages) and 303.29 (labeling of pairs or products containing two or more units).

List of Subjects in 16 CFR Part 303

Labeling, Textile fiber products identification, Trade Practices.

For the reasons set forth above, the Commission amends 16 CFR Part 303 as follows:

PART 303—RULES AND REGULATIONS UNDER THE TEXTILE FIBER PRODUCTS IDENTIFICATION ACT

1. The authority citation for Part 303 continues to read as follows:

Authority: 15 U.S.C. 70 et seq.

2. Section 303.15 is amended by adding paragraph (d) to read as follows:

§ 303.15 Required label and method of affixing.

* * * * *

(d) Socks provided for in subheading 6115.92.90, 6115.93.90, 6115.99.18, 6111.20.60, 6111.30.50, or 6111.90.50 of the Harmonized Tariff Schedule of the United States, as in effect on September 1, 2003, shall be marked, as legibly, indelibly, and permanently as the nature of the article or package will permit, to disclose the English name of the country of origin. This disclosure shall appear on the front of the package, adjacent to the size designation of the product, and shall be set forth in such a manner as to be clearly legible, conspicuous, and readily accessible to the ultimate consumer. Provided, however, any package that contains several different types of goods and includes socks classified under subheading 6115.92.90, 6115.93.90, 6115.99.18, 6111.20.60, 6111.30.50, or 6111.90.50 of the Harmonized Tariff Schedule of the United States, as in effect on September 1, 2003, shall not be subject to the requirements of this subsection.

By direction of the Commission.
Donald S. Clark,
Secretary.

[FR Doc. 05-23883 Filed 12-9-05; 8:45 am]

BILLING CODE 6750-01-P